FEDERAL DEPOSIT INSURANCE CORPORATION

Notice of Termination of Receivership

The Federal Deposit Insurance Corporation (FDIC or Receiver), as Receiver for the following insured depository institution, was charged with the duty of winding up the affairs of the former institution and liquidating all related assets. The Receiver has fulfilled its obligations and made all dividend distributions required by law.

Notice of Termination of Receivership
Fund | Receivership name | City | State | Termination date
10528 | Fayette County Bank | Saint Elmo | IL | 06/01/2020

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination date listed above, the Receivership has been terminated, the Receiver has been discharged, and the Receivership has ceased to exist as a legal entity.

(Authority: 12 U.S.C. 1819)

Federal Deposit Insurance Corporation.
Dated at Washington, DC, on June 2, 2020.
Robert E. Feldman,
Executive Secretary.

[FR Doc. 2020-12203 Filed 6-4-20; 8:45 am]

BILLING CODE 6714-01-P